SMALL BUSINESS ADMINISTRATION

[Disaster Declaration # 10569 and # 10570]

Virginia Disaster # VA-00003

AGENCY: U.S. Small Business Administration.

ACTION: Notice.

SUMMARY: This is a notice of an Administrative declaration of a disaster for the Commonwealth of Virginia dated August 17, 2006.

Incident: Severe Storms and Flooding.

Incident Period: June 25, 2006 through June 30, 2006.

Effective Date: August 17, 2006.

Physical Loan Application Deadline Date: October 16, 2006.

Economic Injury (EIDL) Loan Application Deadline Date: May 17, 2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Alexandria (City), Fairfax.

Contiguous Counties:

Virginia: Arlington, Fairfax (City), Falls Church (City), Loudoun, and Prince William.

District of Columbia: District of Columbia.

Maryland: Charles, Montgomery, and Prince George's.

The Interest Rates are:

| Percent
Homeowners with Credit Available Elsewhere | 5.875
Homeowners without Credit Available Elsewhere | 2.937
Businesses with Credit Available Elsewhere | 7.763
Businesses & Small Agricultural Cooperatives without Credit Available Elsewhere | 4.000
Other (Including Non-Profit Organizations) with Credit Available Elsewhere | 5.000
Businesses and Non-Profit Organizations without Credit Available Elsewhere | 4.000

The number assigned to this disaster for physical damage is 10569 6 and for economic injury is 10570 0.

The States which received an EIDL Declaration # are Virginia, District of Columbia, and Maryland.

(Catalog of Federal Domestic Assistance Numbers 59002 and 59008)

Dated: August 17, 2006.
Steven C. Preston,
Administrator.

[FR Doc. E6-14270 Filed 8-28-06; 8:45 am]

BILLING CODE 8025-01-P